DEPARTMENT OF DEFENSE

GENERAL SERVICES ADMINISTRATION

NATIONAL AERONAUTICS AND SPACE ADMINISTRATION

[OMB Control No. 9000-0073; Docket No. 2025-0053; Sequence No. 5]

Information Collection; Certain Federal Acquisition Regulation Part 32 Requirements

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on an extension concerning certain Federal Acquisition Regulation part 32 requirements. DoD, GSA, and NASA invite comments on: whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through July 31, 2025. DoD, GSA, and NASA propose that OMB extend its approval for use for three additional years beyond the current expiration date.

DATES: DoD, GSA, and NASA will consider all comments received by May 12, 2025.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0073, Certain Federal Acquisition Regulation Part 32 Requirements. Comments received generally will be posted without change to https://www.regulations.gov, including any personal and/or business confidential information provided. To confirm receipt of your comment(s), please check www.regulations.gov, approximately two-to-three days after submission to verify posting.

FOR FURTHER INFORMATION CONTACT: FARPolicy@gsa.gov or call 202-969-4075.

SUPPLEMENTARY INFORMATION:

A. OMB Control Number, Title, and Any Associated Form(s)

9000-0073, Certain Federal Acquisition Regulation Part 32 Requirements

B. Need and Uses

This justification supports the extension of OMB Control No. 9000-0073. This clearance covers the information that offerors and contractors must submit to comply with the following FAR requirements:

FAR 32.408, Application for advance payments. The authorities behind advance payments are 41 U.S.C. chapter 45; 10 U.S.C. chapter 277; Public Law 85-804 (50 U.S.C. 1431-1435); and Executive Order 10789, November 14, 1958. In accordance with FAR 32.408(b), contractors requesting advance payments must submit their request in writing to the contracting officer and provide the following information:

• A reference to the contract if the request concerns an existing contract, or a reference to the solicitation if the request concerns a proposed contract.

• A cash flow forecast showing estimated disbursements and receipts for the period of contract performance.

• The proposed total amount of advance payments.

• The name and address of the financial institution at which the contractor expects to establish a special account as depository for the advance payments.

• A description of the contractor's efforts to obtain unguaranteed private financing or a V-loan under eligible contracts.

• Other information appropriate to an understanding of

• the contractor's financial condition and need,

• the contractor's ability to perform the contract without loss to the Government, and

• financial safeguards needed to protect the Government's interest.

The information is used to determine if advance payments should be provided to the contractor. If advance payments are authorized, the information is used to ensure proper procedures are followed to protect the Government's interest.

FAR 52.232-1 through 52.232-4, 52.232-6, 52.232-7, and 52.232-10—Payments. The basic authority for the contract financing that is implemented in these clauses is contained in 41 U.S.C. chapter 45, Contract Financing, 10 U.S.C. chapter 277, and Title III of the Defense Production Act of 1950 (50 U.S.C. App.2091). The following FAR clauses require the contractor to (as appropriate to the payment terms specified in the contract) provide a proper invoice or voucher.

• 52.232-1, Payments.

• 52.232-2, Payments under Fixed-Price Research and Development Contracts.

• 52.232-3, Payments under Personal Services Contracts.

• 52.232-4, Payments under Transportation Contracts and Transportation-Related Services Contracts.

• 52.232-6, Payment under Communication Service Contracts with Common Carriers.

• 52.232-7, Payments under Time-and-Materials and Labor-Hour Contracts.

• 52.232-10, Payments under Fixed-Price Architect-Engineer Contracts.

“Proper invoice” is defined in FAR part 2 as an invoice that meets the minimum standards specified in FAR 32.905(b), which include the following items:

• Name and address of the contractor.

• Invoice date and invoice number.

• Contract number or other authorization for supplies delivered or services performed (including order number and line item number).

• Description, quantity, unit of measure, unit price, and extended price of supplies delivered or services performed.

• Shipping and payment terms.

• Name and address of contractor official to whom payment is to be sent.

• Name (where practicable), title, phone number, and mailing address of person to notify in the event of a defective invoice.

• Taxpayer Identification Number (TIN) if required by agency procedures.

• Electronic funds transfer (EFT) banking information if required by agency procedures.

• Any other information or documentation required by the contract (e.g., evidence of shipment).

The information is used to determine the proper amount of payments to Federal contractors.

FAR 52.232-5, Payments under Fixed-Price Construction Contracts. This clause requires the contractor's request for progress payments to include the following substantiation:

• An itemization of the amounts requested, related to the various elements of work required by the contract covered by the payment requested.

• A listing of the amount included for work performed by each subcontractor under the contract.

• A listing of the total amount of each subcontract under the contract.

• A listing of the amounts previously paid to each such subcontractor under the contract.

• Additional supporting data in a form and detail required by the contracting officer.

Paragraph (c) of FAR clause 52.232-5 requires contractors to provide a certification with each request for progress payment certifying that—

• The amounts requested are only for performance in accordance with the specifications, terms, and conditions of the contract;

• All payments due to subcontractors and suppliers from previous payments received under the contract have been made, and timely payments will be made from the proceeds of the payment covered by the certification;

• The request for progress payment does not include any amounts which the prime contractor intends to withhold or retain from a subcontractor or supplier in accordance with the terms and conditions of the subcontract; and

• The certification is not to be construed as final acceptance of a subcontractor's performance.

Paragraph (d) of FAR clause 52.232-5 requires contractors to notify contracting officers, if the contractor, after making a certified request for progress payments, discovers that a portion or all of the request constitutes a payment for performance by the contractor that fails to conform to the specifications, terms, and conditions of the contract. Contractors must notify the contracting officer that the performance deficiency has been corrected.

The information is used to determine the proper amount of payments to Federal contractors for construction contracts.

FAR 52.232-12, Advance Payments. For authority behind this clause, see the authority for advance payments cited in the narrative above for FAR 32.408. If advance payments are authorized, this clause requires contractors to submit the following:

• Per paragraph (g)—The financial institution agreement, in the form prescribed by the administering office, establishing the special account, and clearly setting forth the special character of the account and the responsibilities of the financial institution under the account.

• Per paragraph (i)(3)—Notification of a lien in favor of the Government to a third person receiving any items or materials on which the Government has a lien, and a receipt from that third person acknowledging the existence of the lien. Contractors are also required to provide a copy of each receipt to the contracting officer.

• Per paragraph (m)—(1) Monthly, signed or certified balance sheets and profit and loss statements together with a report on the operation of the special account in the form prescribed by the administering office; and (2) If requested, other information concerning the operation of the contractor's business. (This same requirement is at paragraph (j) of the clause with its Alternate V.)

If advance payments are authorized, the information is used to ensure proper procedures are followed to protect the Government's interest.

FAR 52.232-20 and 52.232-22—Limitation of Costs or Funds. FAR clause 52.232-20, Limitation of Cost, requires the contractor to notify the contracting officer in writing whenever it has reason to believe that—

• The costs the contractors expect to incur under the contract in the next 60 days, when added to all costs previously incurred, will exceed 75 percent of the estimated cost of the contracts; or

• The total cost for the performance of the contract will be greater or substantially less than estimated.

As part of the notification, the contractor must provide a revised estimate of the total cost of performing the contract.

FAR clause 52.232-22, Limitation of Funds, requires the contractor to notify the contracting officer in writing whenever it has reason to believe that the costs it expects to incur under the contract in the next 60 days, when added to all costs previously incurred, will exceed 75 percent of (1) the total amount so far allotted to the contract by the Government or, (2) if this is a cost-sharing contract, the amount then allotted to the contract by the Government plus the contractor's corresponding share. The notice must state the estimated amount of additional funds required to continue performance for the contract period. Sixty days before the end of the contract period, the contractor must notify the contracting officer in writing of the estimated amount of additional funds, if any, required to continue performance under the contract, and when the funds will be required.

The information is used to avoid cost overruns and to ensure that funding is available to complete work under Federal contracts.

FAR 52.232-27, Prompt Payment for Construction Contracts. The authority for this FAR clause are the OMB prompt payment regulations at 5 CFR part 1315, which in turn implements the Prompt Payment statute. Paragraph (a)(6)(ii) of FAR clause 52.232-27 requires contractors making a written demand to the designated payment office for additional penalty payment to support their demand with the following data:

• Specifically assert that late payment interest is due under a specific invoice, and request payment of all overdue late payment interest penalty and such additional penalty as may be required;

• Attach a copy of the invoice on which the unpaid late payment interest was due; and

• State that payment of the principal has been received, including the date of receipt.

Paragraph (e)(5) of FAR clause 52.232-27 requires contractors to notify contracting officers upon—

• Reduction of the amount of any subsequent certified application for payment; or

• Payment to the subcontractor of any withheld amounts of a progress payment, specifying: the amounts withheld; and the dates that the withholding began and ended.

Paragraph (g) of FAR clause 52.232-27 requires contractors to issue a written notice of any withholding to a subcontractor (with copy to the contracting officer), specifying—

• The amount to be withheld;

• The specific causes for the withholding under the terms of the subcontract; and

• The remedial actions to be taken by the subcontractor in order to receive payment of the amounts withheld.

Paragraph (l) of FAR clause 52.232-27 requires contractors to remit overpayments to the payment office cited in the contract along with a description that includes the following:

• Circumstances of the overpayment (e.g., duplicate payment, erroneous payment, liquidation errors, date(s) of overpayment);

• Affected contract number and delivery order number if applicable;

• Affected line item or subline item, if applicable; and

• Contractor point of contact.

Contractors are required to provide a copy of the remittance and supporting documentation to the contracting officer.

The information is used to understand when the contractor withholds amounts from subcontractors and suppliers after the Government has already paid the contractor the amounts withheld.

FAR 52.232-33, Payment by Electronic Funds Transfer—System for Award Management. FAR clause 52.232-33 requires contractors to provide updated EFT information in the System for Award Management (SAM) if their information changes. According to the SAM Entity Registration Checklist, the registration/renewal process asks entities to provide the account type, routing number, and account number for EFT. The burden associated with this clause is reflected under OMB Control Number 9000-0189, Certain Federal Acquisition Regulation Part 4 Requirements. OMB Control Number 9000-0189 accounts for new registrations and renewals in SAM, which includes providing EFT information as part of the registration and renewal process.

FAR 52.232-34, Payment by Electronic Funds Transfer—Other than System for Award Management. This clause requires contractors to provide the following information to enable the Government to make payments under the contract by EFT:

• The contract number (or other procurement identification number).

• The contractor's name and remittance address.

• The signature, title, and telephone number of the contractor official authorized to provide this information.

• The name, address, and 9-digit Routing Transit Number of the contractor's financial agent.

• The contractor's account number and the type of account.

• If applicable, the Fedwire Transfer System telegraphic abbreviation of the contractor's financial agent.

• If applicable, the contractor must provide the name, address, telegraphic abbreviation, and 9-digit Routing Transit Number of the correspondent financial institution receiving the wire transfer payment if the contractor's financial agent is not directly on-line to the Fedwire Transfer System.

31 U.S.C.3332 requires, subject to implementing regulations of the Secretary of the Treasury at 31 CFR part 208, that EFT be used to make all contract payments.

The information is used to enable the Government to make contract payments by EFT.

C. Annual Burden

Respondents: 273,518.

Total Annual Responses: 1,789,889.

Total Burden Hours: 462,859.

Obtaining Copies: Requesters may obtain a copy of the information collection documents from the GSA Regulatory Secretariat Division by calling 202-501-4755 or emailing GSARegSec@gsa.gov. Please cite OMB Control No. 9000-0073, Certain Federal Acquisition Regulation Part 32 Requirements.

Janet Fry,
Director, Federal Acquisition Policy Division, Office of Governmentwide Acquisition Policy, Office of Acquisition Policy, Office of Governmentwide Policy.

[FR Doc. 2025-04019 Filed 3-12-25; 8:45 am]

BILLING CODE 6820-EP-P